DEPARTMENT OF HOMELAND SECURITY

Federal Emergency Management Agency

[Docket ID: FEMA-2015-0013; OMB No. 1660-0008]

Agency Information Collection Activities: Submission for OMB Review; Comment Request; Elevation Certificate/Floodproofing Certificate

AGENCY: Federal Emergency Management Agency, DHS.

ACTION: Notice.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before August 31, 2015.

ADDRESSES: Submit written comments on the proposed information collection to the Office of Information and Regulatory Affairs, Office of Management and Budget. Comments should be addressed to the Desk Officer for the Department of Homeland Security, Federal Emergency Management Agency, and sent via electronic mail to oira.submission@omb.eop.gov.

FOR FURTHER INFORMATION CONTACT: Requests for additional information or copies of the information collection should be made to Janice Waller, Acting Director, Records Management Division, 500 C Street SW., Washington, DC 20472-3100, or email address FEMA-Information-Collections-Management@fema.dhs.gov.

SUPPLEMENTARY INFORMATION: This information collection previously published in the Federal Register on May 26, 2015 at 80 FRN 30091 with a 60 day public comment period. FEMA received six comments.

The purpose of this notice is to notify the public that FEMA will submit the information collection abstracted below to the Office of Management and Budget for review and clearance.

Collection of Information

Title: Elevation Certificate/Floodproofing Certificate.

Type of information collection: Revision of a currently approved information collection.

OMB Number: 1660-0008.

Form Titles and Numbers: FEMA Form 086-0-33, Elevation Certificate; FEMA Form 086-0-34, Floodproofing Certificate for Non-Residential Structures.

Abstract: The Elevation Certificate and Floodproofing Certificate are used in conjunction with the flood insurance application to rate Post-FIRM budilings in Special Flood Hazard Areas. Post-FIRM buildings are buildings contructed after the puslication of the initial Flood Insurance Rate Map (FIRM) for the community.

Affected Public: Individuals or households; Businesses or other for-profits; Not-for-profit institutions; Farms; State, Local or Tribal Governments.

Estimated Number of Respondents: 9,322.

Estimated Total Annual Burden Hours: 34,950.

Estimated Cost: The estimated annual cost to respondents operations and maintenance costs for technical services is $3,262,700. There are no annual start-up or capital costs.

Dated: July 28, 2015.
Janice Waller,
Acting Director, Records Management Division, Mission Support, Federal Emergency Management Agency, Department of Homeland Security.

[FR Doc. 2015-18806 Filed 7-30-15; 8:45 am]

BILLING CODE 9110-11-P